DEPARTMENT OF HEALTH AND HUMAN SERVICES

[Document Identifier OS-0990-New; 30-Day Notice]

Agency Information Collection Request 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer; faxed to OMB at (202) 395-5806.

Proposed Project: Teen Pregnancy Prevention Replication Evaluation: Implementation Data Collection—OMB No. OS-0990-NEW—The Office of Adolescent Health.

Abstract: The Office of Adolescent Health (OAH), Office of the Assistant Secretary for Health (OASH), U.S. Department of Health and Human Services (HHS), is overseeing and coordinating adolescent pregnancy prevention evaluation efforts as part of the Teen Pregnancy Prevention Initiative. OAH is working collaboratively with the Office of the Assistant Secretary for Planning and Evaluation (ASPE), the Centers for Disease Control and Prevention (CDC), and the Administration for Children and Families (ACF) on adolescent pregnancy prevention evaluation activities.

OAH in partnership with ASPE will be overseeing the Teen Pregnancy Prevention Replication Evaluation (TPP Replication Evaluation). The TPP Replication Evaluation will be an experimental evaluation which will determine the extent to which a subset of evidence-based program models funded as part of the OAH evidence-based Teen Pregnancy Prevention Initiative demonstrate effects on adolescent sexual risk behavior and teenage pregnancy when they are replicated in similar and in different settings and for different populations. The findings from this evaluation will be of interest to the general public, to policy-makers, and to organizations interested in teen pregnancy prevention.

The implementation study will enable us to understand the programs, document their implementation and context, assess fidelity of implementation and the factors that influence it, and describe the counterfactual, or the “business as usual” services received by youth in the control group. This information will enable us to describe each implemented program and the treatment-control contrast evaluated in each site. It will also help us interpret impact analysis findings and may help explain any unexpected findings, differences in impacts across programs, and differences in impacts across locations or population subgroups.

Estimated Annualized Burden Table
Instrument | Annual number of respondents | Number of responses per respondent | Average burden hours per response | Total annual burden hours
Staff and community member interviews (Master Topic Guide) | 150 | 1 | 1.5 | 225
Guide for Focus Group Discussion with Frontline Staff | 120 | 1 | 1.5 | 180
Guide for Focus Group Discussion with Participating Youths | 400 | 1 | 1.5 | 600
Guide for Discussion with School/Agency Staff about Counterfactual | 100 | 1 | 1 | 100
Total |  |  |  | 1,105

Keith A. Tucker,
Office of the Secretary, Paperwork Reduction Act Clearance Officer.

[FR Doc. 2011-33390 Filed 12-28-11; 8:45 am]

BILLING CODE 4150-30-P